DEPARTMENT OF DEFENSE

Defense Intelligence Agency

[DoD-2006-OS-0099]

Privacy Act of 1974; Systems of Records

AGENCY: Defense Intelligence Agency, DoD.

ACTION: Notice to amend a system of records.

SUMMARY: The Defense Intelligence Agency is amending a system of records notice to its existing inventory of record systems subject to the Privacy Act of 1974 (5 U.S.C. 552a), as amended.

DATES: This proposed action will be effective without further notice on August 17, 2006 unless comments are received that would result in a contrary determination.

ADDRESSES: Freedom of Information Office, Defense Intelligence Agency (DAN-1A), 200 MacDill Blvd, Washington, DC 20340-5100.

FOR FURTHER INFORMATION CONTACT: Ms. Theresa Lowery at (202) 231-1193.

SUPPLEMENTARY INFORMATION: The Defense Intelligence Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: July 12, 2006.
L.M. Bynum,
OSD Federal Register Liaison Officer, Department of Defense.

LDIA 0140

System name:

Passports and Visas (February 22, 1993, 58 FR 10613).

Changes:

* * * * *

System Location:

Delete “0001” and replace with: “5100”.

Categories of Individuals Covered by the System:

Delete entry and replace with: “All DIA personnel requiring passports and visas.”

* * * * *

Authority for maintenance of the system:

Delete entry and replace with: “5 U.S.C. 301, Departmental Regulations; DoD 1000.21-R, Passport Agent Services Regulation; and EO 9397 (SSN).”

* * * * *

Safeguards:

Delete: entry and replace with: “Records are maintained in a building protected by security guards and are stored in vaults, safes or locked cabinets and are accessible only to authorized personnel who are properly screened, cleared and trained in the protection of privacy information. Records maintained in computer system require special access code to retrieve information. Electronic records are maintained on a classified and password protected system.”

* * * * *

System Manager(s) and Address:

Delete entry and replace with: “Operations Management Branch, ATTN: DAL-2B, Defense Intelligence Agency, Washington, DC 20340-5100.”

Notification Procedure:

Delete entry and replace with: “Individuals seeking to determine whether information about themselves is contained in this system of records should address written inquiries to the Freedom of Information Act Office (DAN-1A/FOIA), Defense Intelligence Agency, 200 MacDill Blvd, Washington, DC 20340-5100.

Individuals should provide their full name, current address, telephone number and Social Security Number.”

Record Access Procedures:

Delete entry and replace with: “Individuals seeking access to information about themselves contained in this system should address written inquiries to the Freedom of Information Act Office (DAN-1A/FOIA), Defense Intelligence Agency, 200 MacDill Blvd, Washington, DC 20340-5100.

Individuals should provide their full name, current address, telephone number and Social Security Number.”

Contesting Record Procedures:

Delete entry and replace with: “DIA's rules for accessing records, for contesting contents and appealing initial agency determinations are published in DIA Regulation 12-12 “Defense Intelligence Agency Privacy Program”; 32 CFR part 319—Defense Intelligence Agency Privacy Program; or may be obtained from the system manager.”

Record Source Categories:

Delete entry and replace with: “Individual applicant; Department of State, Passport Office; and Embassies.”

* * * * *

LDIA 0140

System name:

Passports and Visas.

System location:

Defense Intelligence Agency, Washington, DC 20340-5100.

Categories of individuals covered by the system:

All DIA personnel requiring passports and visas.

Categories of records in the system:

Files contain passports and related correspondence.

Authority for maintenance of the system:

5 U.S.C. 301, Departmental Regulations; DoD 1000.21-R, Passport Agent Services Regulation; and EO 9397 (SSN).

Purpose(s):

Information is collected to obtain and safe keep official passports until needed for travel and to obtain necessary visas from appropriate Embassies; to notify individuals to reapply when passports expire and to return passports to the Department of State upon departure of the individual from DIA.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the DIA's compilation of systems of records notices apply to this system.

Policies and practices for storing, retrieving, accessing, retaining, and disposing of records in the system:

Storage:

Automated in computer and manual in paper files.

Retrievability:

Alphabetically by surname of individual in file folders and by name of individual, date of birth, and/or Social Security Number in computer.

Safeguards:

Records are maintained in a building protected by security guards and are stored in vaults, safes or locked cabinets and are accessible only to authorized personnel who are properly screened, cleared and trained in the protection of privacy information. Records maintained in computer system require special access code to retrieve information. Electronic records are maintained on a classified and password protected system.

Retention and disposal:

Passports are returned to Department of State upon departure of the individual from DIA and computer records are transferred into an archive file for 1 year.

System manager(s) and address:

Operations Management Branch, ATTN: DAL-2B, Defense Intelligence Agency, Washington, DC 20340-5100.

Notification procedure:

Individuals seeking to determine whether information about themselves is contained in this system of records should address written inquiries to the Freedom of Information Act Office (DAN-1A/FOIA), Defense Intelligence Agency, 200 MacDill Blvd, Washington, DC 20340-5100.

Individual should provide their full name, current address, telephone number and Social Security Number.

Record access procedures:

Individuals seeking access to information about themselves contained in this system should address written inquiries to the Freedom of Information Act Office (DAN-1A/FOIA), Defense Intelligence Agency, 200 MacDill Blvd, Washington DC 20340-5100.

Individual should provide their full name, current address, telephone number and Social Security Number.

Contesting record procedures:

DIA's rules for accessing records, for contesting contents and appealing initial agency determinations are published in DIA Regulation 12-12 “Defense Intelligence Agency Privacy Program”; 32 CFR part 319—Defense Intelligence Agency Privacy Program; or may be obtained from the system manager.

Record source categories:

Individual applicant; Department of State, Passport Office; and Embassies.

Exemptions claimed for the system:

None.

[FR Doc. 06-6269 Filed 7-17-06; 8:45 am]

BILLING CODE 5001-06-M